DEPARTMENT OF VETERANS AFFAIRS

Chiropractic Advisory Committee; Notice of Meeting

The Department of Veterans Affairs (VA) gives notice under Public Law 92-463 (Federal Advisory Committee Act) that the Chiropractic Advisory Committee will meet Wednesday, December 4, 2002, from 8 a.m. until 12:30 p.m. and Thursday, December 5, 2002, from 8 a.m. until 5 p.m. at the Department of Veterans Affairs Central Office, 810 Vermont Avenue NW., Room 230, Washington, DC 20420. The meeting is open to the public.

The purpose of the Committee is to provide direct assistance and advice to the Secretary of Veterans Affairs in the development and implementation of the chiropractic health program. Matters on which the Committee shall assist and advise the Secretary include protocols governing referrals to chiropractors, direct access to chiropractic care, scope of practice of chiropractic practitioners, definitions of services to be provided and such other matters as the Secretary determines to be appropriate.

On December 4, the Committee will discuss chiropractic education, training, licensure, and techniques. On December 5, the Committee will receive an update on matters pending from the September 2002 meeting; begin discussion of scope of chiropractic services; and if time permits, begin discussion of services to be provided in the VA chiropractic program.

Any member of the public wishing to attend the meeting is requested to contact Ms. Sara McVicker, RN, MN, Committee Manager, at (202) 273-8558, by noon on December 3, 2002, in order to facilitate entry to the building. No time will be allocated at this meeting for receiving oral presentations from the public. However, the Committee will accept written comments from interested parties on issues affecting the development and implementation of the chiropractic health program within VA. It is preferred that such comments be transmitted electronically to the Committee at sara.mcvicker@mail.va.gov or mailed to: Chiropractic Advisory Committee, Primary and Ambulatory Care SHG (112), U.S. Department of Veterans Affairs, 810 Vermont Avenue, NW., Washington, DC 20420.

Dated: November 8, 2002.
By Direction of the Secretary.
Nora E. Egan,
Committee Management Officer.

[FR Doc. 02-28973 Filed 11-14-02; 8:45 am]

BILLING CODE 8320-01-M